DEPARTMENT OF COMMERCE

International Trade Administration

[A-570-848]

Continuation of Antidumping Duty Order: Freshwater Crawfish Tail Meat from the People's Republic of China.

AGENCY: Import Administration, International Trade Administration, Department of Commerce.

ACTION: Notice of continuation of antidumping duty order: freshwater crawfish tail meat from the People's Republic of China.

SUMMARY: On December 6, 2002, the Department of Commerce (“the Department”), pursuant to sections 751(c) and 752 of the Tariff Act of 1930, as amended (“the Act”), determined that revocation of the antidumping duty order on freshwater crawfish tail meat from the People's Republic of China (“PRC”) would be likely to lead to continuation or recurrence of dumping. See Final Results of Expedited Sunset Review: Freshwater Crawfish Tail Meat From the People's Republic of China, 67 FR 72645 ( December 6, 2002).

On August 1, 2003, the International Trade Commission (“the Commission”), pursuant to section 751(c) of the Act, determined that revocation of the antidumping duty order on freshwater crawfish tail meat from the PRC would be likely to lead to continuation or recurrence of material injury to an industry in the United States within a reasonably foreseeable time. See Crawfish Tail Meal from China, 68 FR 45276 (August 1, 2003). Therefore, pursuant to 19 CFR 351.218(f)(4) of the Department's regulations, the Department is publishing notice of the continuation of the antidumping duty order on freshwater crawfish tail meat from the PRC.

EFFECTIVE DATE: August 13, 2003.

FOR FURTHER INFORMATION CONTACT: Martha V. Douthit or Kelly Parkhill, Office of Policy for Import Administration, International Trade Administration, U.S. Department of Commerce, 14th Street and Constitution Avenue, NW., Washington, DC 20230; telephone: (202) 482-5050 or (202) 482-3791.

SUPPLEMENTARY INFORMATION:

Background

On August 2, 2002, the Department initiated (67 FR 50420), and the Commission instituted (67 FR 50459), a sunset review of the antidumping duty order on freshwater crawfish tail meat from the PRC, pursuant to section 751(c) of the Act. As a result of the sunset review, the Department found that revocation of the antidumping duty order would be likely to lead to continuation or recurrence of dumping and notified the Commission of the magnitude of the margin likely to prevail were the order revoked. See Final Results of Expedited Sunset Review: Freshwater Crawfish Tail Meat From the People's Republic of China, 67 FR 72645 (December 6, 2002).

On August 1, 2003, the Commission determined, pursuant to section 751(c) of the Act, that revocation of the antidumping duty order on freshwater crawfish tail meat from the PRC would be likely to lead to continuation or recurrence of material injury to an industry in the United States within a reasonably foreseeable time. See Crawfish Tail Meat from China, 68 FR 45276 (August 1, 2003), and USITC Publication 3614 (July 2003), Investigation No. 731-TA-752 (Review).

Scope of the Antidumping Duty Order

The product covered by the antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10, 1605.40.10.90, 0306.19.00.10 and 0306.29.00.00. The HTS subheadings are provided for convenience and Customs purposes only. The written description of the scope of this order is dispositive.

Determination

As a result of the determinations by the Department and the Commission that revocation of this antidumping duty order would be likely to lead to continuation or recurrence of dumping and material injury to an industry in the United States, pursuant to section 751(d)(2) of the Act, the Department hereby orders the continuation of the antidumping duty order on freshwater crawfish tail meat from the PRC. The Department will instruct Customs to continue to collect antidumping duty deposits at the rates in effect at the time of entry for all imports of subject merchandise. The effective date of continuation of this order will be the date of publication in the Federal Register of this Notice of Continuation. Pursuant to section 751(c)(2) of the Act, the Department intends to initiate the next five-year review of this order not later than July 2008.

Dated: August 7, 2003.
James J. Jochum,
Assistant Secretary for Import Administration.

[FR Doc. 03-20665 Filed 8-12-03; 8:45 am]

BILLING CODE 3510-DS-P